DEPARTMENT OF TRANSPORTATION

Federal Aviation Administration

[Docket No: FAA-2011-0786]

Deadline for Notification of Intent To Use the Airport Improvement Program (AIP) Primary, Cargo, and Non-Primary Entitlement Funds Available to Date for Fiscal Year 2017

AGENCY: Federal Aviation Administration, DOT.

ACTION: Notice.

SUMMARY: The Federal Aviation Administration (FAA) announces May 1, 2017, as the deadline for each airport sponsor to notify the FAA whether or not it will use its fiscal year 2017 entitlement funds available under Section 47114 of Title 49, United States Code, to accomplish Airport Improvement Program (AIP) eligible projects that the airport sponsor previously identified through the Airports Capital Improvement Plan (ACIP) process during the preceding year.

The airport sponsor's notification must address all entitlement funds available to date for fiscal year 2017, as well as any entitlement funds not obligated from prior years. After Friday, July 7, 2017, the FAA will carry-over the remainder of currently available entitlement funds, and these funds will not be available again until at least the beginning of fiscal year 2018. Currently, the AIP has approximately 56 percent of the entitlements available through April 28, 2017. If congressional action is taken which provides for additional entitlements, the FAA will then work with airport sponsors to adjust accordingly. This notification requirement does not apply to non-primary airports covered by the block-grant program.

FOR FURTHER INFORMATION CONTACT: Mr. Frank J. San Martin, Manager, Airports Financial Assistance Division, APP-500, on (202) 267-3831.

SUPPLEMENTARY INFORMATION: Title 49 of the United States Code, section 47105(f), provides that the sponsor of each airport to which funds are apportioned shall notify the Secretary by such time and in a form as prescribed by the Secretary, of the airport sponsor's intent to apply for its apportioned funds, also called entitlement funds. Therefore, the FAA is hereby notifying such airport sponsors of the steps required to ensure that the FAA has sufficient time to carry-over and convert remaining entitlement funds, due to processes required under federal laws. This notice applies only to those airports that have had entitlement funds apportioned to them, except those nonprimary airports located in designated block-grant States. Airport sponsors intending to apply for any of their available entitlement funds, including those unused from prior years, shall make their intent known by 12:00 p.m. prevailing local time on Monday, May 1, 2017, consistent with prior practice. A written indication must be provided to the designated Airports District Office (or Regional Office in regions without Airports District Offices) stating their intent to submit a grant application no later than close of business Friday, June 2, 2017 and to use their fiscal year 2017 entitlement funds available under Title 49 of the United States Code, section 47114. This notice must address all entitlement funds available to date for fiscal year 2017 including those entitlement funds not obligated from prior years. By Friday, June 2, 2017, airport sponsors that have not yet submitted a final application to the FAA, must notify the FAA of any issues meeting the final application deadline of Friday, June 30, 2017. Absent notification from the airport sponsor by the May 1 deadline and/or subsequent notification by the June 2 deadline of any issues meeting the application deadline, the FAA will proceed after Friday, June 30, 2017 to take action to carry-over the remainder of available entitlement funds without further notice. These funds will not be available again until at least the beginning of fiscal year 2018. These dates are subject to possible adjustment based on future extensions to the FAA's current appropriation which currently expires April 28, 2017.

This notice is promulgated to expedite and facilitate the grant-making process.

The AIP grant program is operating under the requirements of Public Law 114-190, the “FAA Extension, Safety, and Security Act of 2016,” enacted on July 15, 2016, which authorizes the FAA through September 30, 2017 and the “Furthering Continuing and Security Assistance Appropriations Act, 2017” which appropriates FY 2017 funds for the AIP through April 28, 2017.

Issued in Washington, DC, on February 27, 2017.
Elliott Black,
Director, Office of Airport Planning and Programming.

[FR Doc. 2017-05176 Filed 3-14-17; 8:45 am]

BILLING CODE 4910-13-P